SMALL BUSINESS ADMINISTRATION

[Declaration of Disaster #3365]

State of California

Butte County and the contiguous counties of Colusa, Glenn, Plumas, Sutter, Tehama and Yuba in the State of California constitute a disaster area as a result of damages caused by severe wildfires that occurred on September 6, 2001. Applications for loans for physical damage as a result of this disaster may be filed until the close of business on November 19, 2001 and for economic injury until the close of business on June 18, 2002 at the address listed below or other locally announced locations: U.S. Small Business Administration, Disaster Area 4 Office, P.O. Box 13795, Sacramento, CA 95853-4795.

The interest rates are:

| Percent
For Physical Damage:
Homeowners With Credit Available Elsewhere | 6.750
Homeowners Without Credit Available Elsewhere | 3.375
Businesses With Credit Available Elsewhere | 8.000
Businesses and Non-Profit Organizations Without Credit Available Elsewhere | 4.000
Others (Including Non-Profit Organizations) With Credit Available Elsewhere | 7.125
For Economic Injury:
Businesses and Small Agricultural Cooperatives Without Credit Available Elsewhere | 4.000

The number assigned to this disaster for physical damage is 336505 and for economic damage is 9M7500.

(Catalog of Federal Domestic Assistance Program Nos. 59002 and 59008.)
Dated: September 18, 2001.
John Whitmore,
Acting Administrator.

[FR Doc. 01-23884 Filed 9-24-01; 8:45 am]

BILLING CODE 8025-01-P